NATIONAL ARCHIVES AND RECORDS ADMINISTRATION

Office of Government Information Services

[NARA-2018-011]

Freedom of Information Act (FOIA) Advisory Committee

AGENCY: Office of Government Information Services (OGIS), National Archives and Records Administration (NARA).

ACTION: Notice of Federal Advisory Committee Meeting.

SUMMARY: We are announcing the following committee meeting of the Freedom of Information Act (FOIA) Advisory Committee.

DATES: The meeting will be held on January 16, 2018, from 10:00 a.m. to 1:00 p.m. EDT. You must register for the meeting by 5:00 p.m. EDT on January 15, 2018.

ADDRESSES: National Archives and Records Administration, 700 Pennsylvania Avenue NW, William G. McGowan Theater, Washington, DC 20408.

FOR FURTHER INFORMATION CONTACT: Amy Bennett, Designated Federal Officer for this committee, by mail at National Archives and Records Administration, Office of Government Information Services, 8601 Adelphi Road—OGIS, College Park, MD 20740-6001, by telephone at 202-741-5770, or by email at foia-advisory-committee@nara.gov.

SUPPLEMENTARY INFORMATION: We announce this advisory committee meeting in accordance with the Federal Advisory Committee Act (5 U.S.C. App) and the second United States Open Government National Action Plan (NAP) released on December 5, 2013.

Agenda and meeting materials: You may find all meeting materials at https://ogis.archives.gov/foia-advisory-committee/2016-2018-term/Meetings.htm. This will be the seventh meeting of the second committee term. The purpose of this meeting will be to review the work of the committee's three subcommittees. Information on them is at https://ogis.archives.gov/foia-advisory-committee/2016-2018-term/Subcommittees.htm.

Procedures: The meeting is open to the public. Due to security requirements, you must register in advance if you wish to attend the meeting. You will also go through security screening when you enter the building. Registration for the meeting will go live via Eventbrite on December 19, 2017, at 10:00 a.m. EDT. To register for the meeting, please do so at this Eventbrite link: https://www.eventbrite.com/e/freedom-of-information-act-foia-advisory-committee-meeting-january-16-2018-registration-37728051618.

This program will be live-streamed on the U.S. National Archives' YouTube channel at https://www.youtube.com/user/usnationalarchives/playlists. The webcast will include a captioning option. To request additional accommodations (e.g., a transcript), email foia-advisory-committee@nara.gov or call 202-741-5770. Members of the media who wish to register, those who are unable to register online, and those who require special accommodations, should contact Amy Bennett at the phone number, mailing address, or email address listed above.

Patrice Little Murray,
Committee Management Officer.

[FR Doc. 2017-27681 Filed 12-22-17; 8:45 am]

BILLING CODE 7515-01-P